DEPARTMENT OF ENERGY

Office of Energy Efficiency and Renewable Energy

Guidelines for Home Energy Professionals: Standard Work Specifications for Single Family Energy Upgrades

AGENCY: Office of Energy Efficiency and Renewable Energy, U.S. Department of Energy (DOE).

ACTION: Notice of reopening of comment period.

SUMMARY: A notice of availability and request for comments on a revised version of The Guidelines for Home Energy Professionals: Standard Work Specifications for Single Family Energy Upgrades was published in the Federal Register on March 29, 2012. 77 FR 19008. A number of commenters indicated that because of the extent of changes to the revised version from the version previously made publically available, additional time should be provided for review and comment. This notice reopens the comment period on the revised guidelines to provide additional opportunity for public review and comment.

DATES: Comments on the Guidelines for Home Energy Professionals: Standard Work Specifications for Single Family Energy Upgrades must be received by 5 p.m. Eastern Standard Time on May 15, 2012.

ADDRESSES: A link to the online public comment tool can be found at: http://nrel.pnnl.gov/forumdisplay.php/5-SWS-for-Single-Family-Homes

You may also submit comments by any of the following methods:

• Federal eRulemaking Portal: http://www.regulations.gov.

• By email: retrofit.guidelines@nrel.gov.

• By mail: National Renewable Energy Laboratory, Attn: Chuck Kurnik, RSF402, 1617 Cole Boulevard, Golden, CO 80401.

For further information on how to submit comments, please see the SUPPLEMENTARY INFORMATION section.

FOR FURTHER INFORMATION CONTACT:

Joshua Olsen, Weatherization and Intergovernmental Program, Mailstop EE-2K, Office of Energy Efficiency and Renewable Energy, U.S. Department of Energy, 1000 Independence Avenue SW., Washington, DC 20585, Phone number: (202) 287-1813, Email: joshua.olsen@ee.doe.gov.

Christopher Calamita, U.S. Department of Energy, Office of the General Counsel, Forrestal Building, GC-71, 1000 Independence Avenue SW., Washington, DC 20585, Phone number: (202) 586-1777, Email: christopher.calamita@hq.doe.gov.

SUPPLEMENTARY INFORMATION: EERE through the National Renewable Energy Laboratory is developing voluntary work specifications for the work involved in home energy upgrades. This document builds upon the considerable body of material already in circulation and the cumulative knowledge gathered throughout the 30-year history of the Weatherization Assistance Program and broader home performance industry.

The development of The Guidelines for Home Energy Professionals: Standard Work Specifications for Single Family Energy Upgrades (SWS) is supported by the Weatherization Assistance Program (WAP) Training and Technical Assistance Plan (T&TA). The process of developing the SWS has involved a historic collaboration between WAP practitioners and trainers, home performance contractors, building scientists, organized labor, healthy homes and worker safety experts, and other professionals in the building trades and throughout the retrofit industry. On November 9, 2010, EERE issued a notice requesting public comment on a draft version of the SWS. On March 29, 2012, EERE made available a version of the SWS that was revised in response to comments received, and provided an opportunity for public review and comment until April 11, 2012. 77 FR 19008. For background on the revised version of the SWS, see the March 29, 2012 notice.

Comments provided to date can be viewed at: http://nrel.pnnl.gov/forumdisplay.php/9-SWS-for-Single-Family-Homes.

The comment docket now identifies the commenter along with the comment provided.

A number of commenters indicated that because of the extent of changes to the revised SWS as compared to the version previously made publically available, additional time should be provided for review and comment. This notice reopens the comment period on the revised guidelines to provide additional opportunity for public review and comment.

Submission of Comments

DOE will accept comments, data, and information regarding the proposed guidelines no later than the date specified under the DATES heading. Comments received during the period following April 11, 2012, and the date of this notice will be treated as having been timely submitted.

If submitting comments via the DOE Web page, please follow all instructions on the Web page: http://www.weatherization.energy.gov/retrofit_guidelines. This Web site is specifically designed for ease of use to facilitate the public comment process.

Comments, data, and information uploaded to regulations.gov, or submitted via DOE's email address or regular mail should be provided in WordPerfect, Microsoft Word, PDF, or text (ASCII) file format. Interested parties should avoid the use of special characters or any form of encryption, and wherever possible, comments should include the electronic signature of the author. Comments, data, and information submitted to DOE via regular mail may include one signed paper original.

According to 10 CFR 1004.11, any person submitting information that he or she believes to be confidential and exempt by law from public disclosure should submit two copies: One copy of the document including all the information believed to be confidential, and one copy of the document that does not include the information believed to be confidential. DOE will make its own determination as to the confidential status of the information and treat it according to its determination.

Factors of interest to DOE when evaluating requests to treat submitted information as confidential include:

(1) A description of the items;

(2) Whether and why such items are customarily treated as confidential within the industry;

(3) Whether the information is generally known by or available from other sources;

(4) Whether the information has previously been made available to others without obligation concerning its confidentiality;

(5) An explanation of the competitive injury to the submitting person which would result from public disclosure;

(6) A date upon which such information might lose its confidential nature due to the passage of time; and

(7) Why disclosure of the information would be contrary to the public interest.

Issued in Washington, DC, on April 11, 2012.
AnnaMaria Garcia,
Acting Program Manager, Weatherization and Intergovernmental Program, Energy Efficiency and Renewable Energy.

[FR Doc. 2012-9311 Filed 4-17-12; 8:45 am]

BILLING CODE 6450-01-P